DEPARTMENT OF LABOR

Employment and Training Administration

[TA-W-53,585]

Sealed Air Corporation, Salem, IL; Notice of Revised Determination Regarding Application for Reconsideration

By application of February 25, 2004, a petitioner requested administrative reconsideration of the Department's negative determination regarding eligibility for workers and former workers of the subject firm to apply for Trade Adjustment Assistance (TAA).

The initial investigation resulted in a negative determination issued on January 20, 2004, because the “contributed importantly” test of the Group Eligibility Requirements of the Trade Act was not met for workers at the subject firm. The workers produce padded mailing envelopes. The denial notice was published in the Federal Register on March 12, 2004 (69 FR 11888).

The petitioner alleges that Sealed Air Corporation, Salem, Illinois produced more products than just mailing envelopes and that 50 percent of the plant production was extruded plastic foam. The petitioner further states that while production of paper envelopes was shifted domestically, production of plastic foam was shifted to Mexico upon the subject plant's closure. To support this statement, the petitioner attached copies of the Bill of Landing, which show the shipment of machinery from the subject facility to Mexico.

A company official was contacted to verify this information. Upon further review, it was revealed that some workers at Sealed Air Corporation, Salem, Illinois were indeed engaged in the production of plastic foam during the relevant period; they were separately identifiable. A company official confirmed that approximately fifty percent of production of plastic foam was shifted to Mexico in 2003 and that this shift contributed importantly to layoffs at Sealed Air Corporation in Salem, Illinois.

In accordance with section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of section 246 of the Trade Act must be met. The Department has determined in this case that the requirements of section 246 have been met.

A significant number of workers at the firm are age 50 or over and possess skills that are not easily transferable. Competitive conditions within the industry are adverse.

Conclusion

After careful review of the facts obtained in the investigation, I conclude that there was a shift in production from the workers' firm or subdivision to Mexico of articles that are like or directly competitive with plastic foam produced by the subject firm or subdivision. In accordance with the provisions of the Act, I make the following certification:

All workers of Sealed Air Corporation, Salem, Illinois, engaged in the production of plastic foam, who became totally or partially separated from employment on or after October 30, 2002, through two years from the date of this certification, are eligible to apply for adjustment assistance under section 223 of the Trade Act of 1974, and are eligible to apply for alternative trade adjustment assistance under section 246 of the Trade Act of 1974.

Signed in Washington, DC this 13th day of April, 2004.
Elliott S. Kushner,
Certifying Officer, Division of Trade Adjustment Assistance.

[FR Doc. E4-1068 Filed 5-10-04; 8:45 am]

BILLING CODE 4510-13-P